DEPARTMENT OF JUSTICE

Antitrust Division

Notice Pursuant to the National Cooperative Research and Production Act of 1993—The Open Group, LLC

Notice is hereby given that, on March 4, 2019, pursuant to Section 6(a) of the National Cooperative Research and Production Act of 1993, 15 U.S.C. 4301 et seq. (“the Act”), The Open Group, LLC (“TOG”) has filed written notifications simultaneously with the Attorney General and the Federal Trade Commission disclosing changes in its membership. The notifications were filed for the purpose of extending the Act's provisions limiting the recovery of antitrust plaintiffs to actual damages under specified circumstances. Specifically, Amazon Web Services, Inc., Seattle, WA; Australian Postal Corporation, Melbourne, AUSTRALIA; AXA GIE, Paris, FRANCE; BAE Systems and Controls, Inc., Endicott, NY; Bluware, Inc., Houston, TX; BS GRUPO S.A.C., Arequipa, PERU; CACI International, Inc., Proving Ground, MD; Dept of Pharmacology, School of Medicine, Keio University, Tokyo, JAPAN; DRS Signal Solutions, Inc., Germantown, MD; EACIT LLC, Cypress, TX; Energistics Consortium, Inc., Houston, TX; Focus People s.r.o., Senov, CZECH REPUBLIC; Great Software Laboratory Private Limited, Pune, INDIA; INNOSEC Ltd., Hod Hasharon, ISRAEL; Interactive Network Technologies, Inc., Houston, TX; IT Management and Governance, LLC, Falls Church, VA; Kearfott Corporation, Little Falls, NJ; Lead Dog Technologies, Lindon, UT; LGS Innovations, Westminster, CO; Milpower Source Inc., Belmont, NY; MooD International Software, York, UNITED KINGDOM; Paradigm Geophysical Corporation, Houston, TX; Petróleo Brasileiro S.A.-PETROBRAS, Rio de Janeiro, BRAZIL; PLCopen, Gorinchem, THE NETHERLANDS; Qumulo, Inc., Seattle, WA; Schlumberger Oilfield UK Plc, Gatwick, UNITED KINGDOM; SRC, Inc., N. Syracuse, NY; Target Energy Solutions, Woking, UNITED KINGDOM; TechnipFMC plc, Houston, TX; and TOGETHER Business & Consulting S.r.l., Pilar, ARGENTINA, have been added as parties to this venture.

Also, American Express, Phoenix, AZ; ARISOME, Saint Cloud, FRANCE; Athr IT Consulting, Riyadh, SAUDI ARABIA; Booz Allen Hamilton, Linthicum, MD; Cognoscenti Systems, L.L.C., Baltimore, MD; Elparazim, Aurora, TX; Forefront Consulting Group, Stockholm, SWEDEN; General Electric, Niskayuna, NY; Inductive Automation, LLC, Folsom, CA; INOVA Europe, Inc., Dallas, TX; Network Centric Operations Industry Consortium, Newport Beach, CA; Northern Technologies Group, Tampa, FL; Oxford Brookes University, Oxford, UNITED KINGDOM; Slnee Company, Nassim City, SAUDI ARABIA; StackFrame, LLC, Sanford, FL; and US Department of Defense Office of the CIO, Washington, DC, have withdrawn as parties to this venture.

In addition, Georgia Institute of Technology has changed its name to Board of Regents of the University System of Georgia by and on behalf of the Georgia Institute of Technology, Atlanta, GA; Rockwell Collins to Collins Aerospace, Cedar Rapids, IA; and Voith Digital Solutions GmbH to J.M. Voith SE & Co, KG/DSG, Heidenheim, GERMANY.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on December 10, 2018. A notice was published in the Federal Register pursuant to Section 6(b) of the Act on December 19, 2018 (83 FR 65181).

Suzanne Morris,
Chief, Premerger and Division Statistics Unit, Antitrust Division.

[FR Doc. 2019-06546 Filed 4-3-19; 8:45 am]

BILLING CODE 4410-11-P